ENVIRONMENTAL PROTECTION AGENCY

[OPP-2005-0203 FRL-7741-1]

Ethylene Oxide Risk Assessment; Notice of Availability; Reopening of Comment Period

AGENCY: Environmental Protection Agency (EPA).

ACTION: Notice; Reopening of Comment Period.

SUMMARY: EPA issued a notice in the Federal Register of August 3, 2005, concerning the availability of the risk assessment for ethylene oxide. This document is reopening the comment period for 30 days, until November 18, 2005.

DATES: Comments must be received on or before November 18, 2005.

ADDRESSES: Comments, identified by docket identification (ID) number OPP-2005-0203, may be submitted electronically, by mail, or through hand delivery/courier. Follow the detailed instructions as provided in Unit I.C. of the SUPPLEMENTARY INFORMATION of the August 3, 2005 Federal Register document.

FOR FURTHER INFORMATION CONTACT: Susan Bartow, Special Review and Reregistration Division (7508C), Office of Pesticide Programs, Environmental Protection Agency, 1200 Pennsylvania Ave., NW., Washington, DC 20460-0001; telephone number: (703) 603-0065; fax number: (703) 308-8041; e-mail address: bartow.susan@epa.gov.

SUPPLEMENTARY INFORMATION:

I. General Information

A. Does this Action Apply to Me?

The Agency included in the Notice of Availability a list of those who may be potentially affected by this action. If you have questions regarding the applicability of this action to a particular entity, consult the person listed under FOR FURTHER INFORMATION CONTACT.

B. How Can I Get Copies of this Document and Other Related Information?

1. Docket. EPA has established an official public docket for this action under docket ID number OPP-2005-0203. The official public docket consists of the documents specifically referenced in this action, any public comments received, and other information related to this action. Although a part of the official docket, the public docket does not include Confidential Business Information (CBI) or other information whose disclosure is restricted by statute. The official public docket is the collection of materials that is available for public viewing at the Public Information and Records Integrity Branch (PIRIB), Rm. 119, Crystal Mall #2, 1801 S. Bell St., Arlington, VA. This docket facility is open from 8:30 a.m. to 4 p.m., Monday through Friday, excluding legal holidays. The docket telephone number is (703) 305-5805.

2. Electronic access. You may access this Federal Register document electronically through the EPA Internet under the “Federal Register” listings at http://www.epa.gov/fedrgstr/.

An electronic version of the public docket is available through EPA's electronic public docket and comment system, EPA Dockets. You may use EPA Dockets at http://www.epa.gov/edocket/ to submit or view public comments, access the index listing of the contents of the official public docket, and to access those documents in the public docket that are available electronically. Once in the system, select “search,” then key in the appropriate docket ID number.

C. How and to Whom Do I Submit Comments?

To submit comments, or access the official public docket, please follow the detailed instructions as provided in Unit I.C. of the SUPPLEMENTARY INFORMATION of the August 3, 2005 Federal Register document. If you have questions, consult the person listed under FOR FURTHER INFORMATION CONTACT.

II. What Action is EPA Taking?

This document reopens the public comment period established in the Federal Register of August 3, 2005 (70 FR 44632) (FRL-7729-2). In that document, EPA made available the human health risk assessment for ethylene oxide (ETO). ETO is a fumigant/sterilant used to sterilize medical or laboratory equipment, pharmaceuticals, and aseptic packaging, or to reduce microbial load on cosmetics, whole and ground spices or other seasoning materials, and artifacts, archival material or library objects. The Agency developed this risk assessment as part of its public process for making pesticide reregistration eligibility and tolerance reassessment decisions. Through these programs, EPA is ensuring that pesticides meet current standards under the Federal Insecticide, Fungicide, and Rodenticide Act (FIFRA) and the Federal Food, Drug, and Cosmetic Act (FFDCA), as amended by the Food Quality Protection Act of 1996 (FQPA). The Agency received a request by a stakeholder to extend the comment period. EPA is hereby reopening the comment period, which ended on October 3, 2005; comments must now be received on or before [insert date 30 days after date of publication in the Federal Register]. This extension is being given based on the request to have additional time to review the extensive amount of information provided and the nature of the issues involved.

List of Subjects

Environmental protection, Pesticides and pests.

Dated: October 5, 2005.
Peter Caulkins,
Acting Director, Special Review and Reregistration Division, Office of Pesticide Programs.

[FR Doc. 05-20821 Filed 10-18-05; 8:45 am]

BILLING CODE 6560-50-S